GENERAL SERVICES ADMINISTRATION

Maximum Per Diem Rates for Georgia; G-8 Summit

AGENCY: Office of Governmentwide Policy, General Services Administration (GSA).

ACTION: Notice of Per Diem Bulletin 04-2, temporarily revised continental United States (CONUS) per diem rates.

SUMMARY: As a result of the G-8 Summit, lodging and meal rates have increased in Sea Island, St. Simons Island and Jekyll Island (Glynn County) and Savannah (Chatham County), Georgia. A special per diem rate has been established that will apply to claims for reimbursement covering travel during the period February 1, 2004, through August 1, 2004, for U.S. Government employees and members of the uniformed services attending and/or participating in the G-8 Summit. The special per diem rate prescribed in bulletin 04-2 may be found at http://www.gsa.gov/perdiem.

DATES: This notice is effective from February 1, 2004, to August 15, 2004, and applies to travel during the period of February 1 through August 1, 2004.

FOR FURTHER INFORMATION CONTACT: For clarification of content, contact Patrick McConnell, Office of Governmentwide Police, Travel Management Policy, at (202) 501-2362. Please cite Notice of Per Diem Bulletin 04-2.

SUPPLEMENTARY INFORMATION: Title 5 United States Code, section 5702 permits the Administrator of General Services to establish per diem rates for official travel within the continental United States. The head of an agency may request the establishment of a higher rate when special or unusual circumstances result in an extreme increase in subsistence costs for a temporary period. This higher rate temporarily changes the maximum per diem amounts announced in the Federal Register at 68 FR 52035, August 29, 2003, for the following locations:

State of Georgia

Sea Island, St. Simons Island and Jekyll Island, including Glynn County. Savannah, including Chatham County.

Dated: January 8, 2004.
Becky Rhodes,
Deputy Associate Administrator.

[FR Doc. 04-1599 Filed 1-26-04; 8:45 am]

BILLING CODE 6820-14-M